GENERAL SERVICES ADMINISTRATION

Revised Notice of Intent to Prepare an Environmental Impact Statement

AGENCY: General Services Administration (GSA), National Capital Region.

ACTION: Notice.

SUMMARY: Pursuant to the requirements of the National Environmental Policy Act of 1969 (NEPA), 42 U.S.C. § 4321-4347, the Council on Environmental Quality Regulations (40 CFR parts 1500-1508), GSA Order PBS P 1095.1F (Environmental considerations in decision-making, dated October 19, 1999), and the GSA Public Buildings Service NEPA Desk Guide, GSA is revising its June 7, 2005, notice of intent announcing the preparation of an Environmental Impact Statement (EIS) for the redevelopment of the St. Elizabeths West Campus (St. Elizabeths) in Southeast Washington, DC. The initial notice of intent defined the purpose of the proposed action as “develop[ing] secure office space in the District of Columbia to accommodate substantial Federal operations.” Since that notice was issued, GSA has identified a specific tenant for this site. Accordingly, the primary purpose of the proposed action is now defined as “developing secure office space in the District of Columbia to house the consolidated headquarters of the Department of Homeland Security (DHS) and its Components, including the United States Coast Guard, in accordance with the DHS National Capital Region housing plan.” GSA has initiated consultation under Section 106 of the National Historic Preservation Act, 16 U.S.C. § 470f, for the proposed redevelopment.

FOR FURTHER INFORMATION CONTACT: Denise Decker, NEPA Lead, General Services Administration, National Capital Region, at (202) 205-5821.

SUPPLEMENTARY INFORMATION: The notice of intent is as follows:

Revised Notice of Intent To Prepare an Environmental Impact Statement for the Redevelopment of the St. Elizabeths West Campus in Southeast Washington, DC, to house the Headquarters of the Department of Homeland Security and its Components, including the United States Coast Guard, in accordance with the DHS National Capital Region housing plan.

The General Services Administration is preparing an Environmental Impact Statement (EIS) to analyze the potential impacts resulting from redevelopment of the St. Elizabeths West Campus (St. Elizabeths) in Southeast Washington, DC. GSA is also preparing a master plan for the redevelopment of the St. Elizabeths West Campus (“the site” or the “West Campus”) for Federal use. The primary purpose for this proposed action is to develop secure office space in the District of Columbia to accommodate the headquarters of the Department of Homeland Security and its Components, including the United States Coast Guard, in accordance with the DHS National Capital Region housing plan.

Background

In June 2005, GSA issued the initial notice of intent to prepare an EIS for the proposed Master Plan for the redevelopment of the St. Elizabeths West Campus. The initial notice of intent defined the purpose of the proposed action as “develop[ing] secure office space in the District of Columbia to accommodate substantial Federal operations.” At that time, GSA had only identified potential tenants for the site. Therefore, GSA considered a wide range of potential development densities in the initial stages of its master planning for this site.

In late calendar year 2005, DHS approached GSA and requested assistance in meeting DHS’ housing needs in the National Capital Region, including the need for a new Coast Guard headquarters. GSA has reviewed DHS' space needs and has determined that (i) DHS headquarters and its components are scattered in over 60 buildings throughout the National Capital Region, which adversely impacts critical communication, coordination, and cooperation across components particularly in responding to significant natural disasters or terrorist threats; (ii) the DHS housing plan requires certain core elements of its organization, including the Coast Guard, to be located on a single campus, for reasons of both efficiency and organizational effectiveness; (iii) DHS has an immediate need for the consolidation of these core elements; (iv) DHS requires the highest level of secure Federal office space for its headquarters campus, including buffer zones around the perimeter of such facility; and (v) DHS headquarters is required by statute (4 USC §§ 71-72) to be located within the District of Columbia.

Based on these findings, there is a need to establish a secure campus within the District of Columbia to house the consolidated headquarters and components of DHS, including the Coast Guard headquarters, consistent with DHS' housing plan. Therefore, GSA is redefining the purpose of this proposed action as follows: The primary purpose of this proposed action is to develop secure office space in the District of Columbia to accommodate the headquarters of the Department of Homeland Security and its Components, including the United States Coast Guard, in accordance with the DHS housing plan.

In addition, based on an analysis of alternative locations, as well as consideration of applicable legislation regarding relocation of the Coast Guard headquarters, GSA has determined that the only reasonable alternatives for meeting the DHS space needs are alternatives involving the redevelopment of the St. Elizabeths West Campus.

Alternatives Under Consideration

Based on a comprehensive review of its housing needs and organizational mission, DHS has determined that its headquarters and components require a single campus, within the District of Columbia, that includes 4.5 million gross square feet of office space plus parking for a total of approximately 6.4 million gross square feet. In the EIS, GSA will consider a range of alternatives for consolidating DHS headquarters at St. Elizabeths consistent with DHS' operational requirements. Four alternatives previously under consideration, two at 1.4 million gross square feet of office space and two at 3.0 million gross square feet of office space, will no longer be considered.

Consistent with the requirements of Section 110 of the National Historic Preservation Act, GSA will consider alternatives to minimize harm to the St. Elizabeths West Campus, which has been designated as a National Historic Landmark (NHL). GSA specifically invites comments on potential alternatives that accommodate DHS space needs and organizational requirements, while minimizing harm to the contributing elements of the NHL.

In addition, as required by NEPA, GSA is studying the no action alternative. Under the No Action alternative, GSA would not consolidate the DHS headquarters and its components at St. Elizabeths, and would not redevelop the St. Elizabeths West Campus. GSA would only perform the needed maintenance to keep the historic buildings and property on the West Campus from further deterioration until it determines the feasibility of retaining the property or disposing of it through the Federal real property disposal process. As part of the EIS, GSA will study the impacts of the alternatives on the human environment.

Scoping Process

In accordance with NEPA, GSA is reinitiating the scoping process to assess significant issues related to the proposed redevelopment of St. Elizabeths for the consolidation of DHS headquarters and its components. Scoping will be accomplished through correspondence to potentially interested persons, agencies, and organizations, and meetings with agencies having an interest in the St. Elizabeths redevelopment plan. It is important that Federal, regional, and local agencies, and interested individuals and groups take this opportunity to identify environmental concerns that should be addressed in the Draft EIS. It is not necessary to resubmit previous comments as part of this process.

GSA is also using this reinitiated NEPA process to continue consultation with the public under Section 106 of the National Historic Preservation Act (36 CFR Part 800 [Protection of Historic Properties]). GSA welcomes comments from the public to ensure that it takes into account the effects of its action on historic and cultural resources.

Written Comments: Agencies and the public are encouraged to provide written comments on the scoping issues. Written comments regarding the environmental analysis for the redevelopment of the St. Elizabeths must be submitted no later than 30 days after publication of this notice in the Federal Register. Comments may be submitted by regular mail to the following address: General Services Administration, National Capital Region, Attention: Denise Decker, NEPA Lead, 301 7th Street, SW, Room 7600, Washington, DC 20407. Comments also may be submitted by facsimile or e-mail: Fax (202) 708—7671; denise.decker@gsa.gov.

Dated: June 11, 2007.
Bart Bush,
Assistant Regional Administrator, Public Buildings Service.

[FR Doc. E7-12596 Filed 6-27-07; 8:45 am]

BILLING CODE 6820-23-S